GENERAL SERVICES ADMINISTRATION

Office of Communications; Cancellation of a Standard Form

AGENCY: General Services Administration.

ACTION: Notice.

SUMMARY: The Department of Labor is cancelling the following Standard Form because of low usage: SF 99, Notice of Award of Contract.

DATES: Effective December 13, 2000.

FOR FURTHER INFORMATION CONTACT: Ms. Barbara Williams, General Services Administration, (202) 501-0581.

Dated: November 13, 2000.
Barbara M. Williams,
Deputy Standard and Optional Forms Management Officer.

[FR Doc. 00-31670 Filed 12-12-00; 8:45 am]

BILLING CODE 6820-34-M